ENVIRONMENTAL PROTECTION AGENCY

[FRL-6577-6]

Notice of Proposed Administrative Order on Consent Pursuant to the Comprehensive Environmental Response, Compensation and Liability Act (“CERCLA”), East Multnomah County Groundwater Contamination Site, Portland, OR

AGENCY: Environmental Protection Agency (EPA).

ACTION: Notice; request for comment.

SUMMARY: In accordance with section 122(i) of the Comprehensive Environmental Response, Compensation and Liability Act of 1980, as amended (“CERCLA”), 42 U.S.C. 9622(i), notice is hereby given that the United States Environmental Protection Agency (“EPA”), the State of Oregon Department of Environmental Quality (“DEQ”) and the City of Portland (“the City”) have negotiated a proposed Administrative Order on Consent (“Consent Order”) pursuant to section 122(g) of CERCLA, 42 U.S.C. 9622(g), as amended, and applicable Oregon state law, to be issued jointly by EPA and DEQ to the City, with respect to the East Multnomah County Groundwater Contamination Site in Oregon (“Site”).

DATES: Comments must be provided on or before May 15, 2000.

ADDRESSES: Comments should be addressed to Alan Goodman, Project Manager, Oregon Operations Office, Environmental Protection Agency, 811 SW Sixth Avenue, 3rd Floor, Portland, Oregon, 97204, and refer to In the Matter of East Multnomah County Groundwater Contamination Site, Proposed Administrative Order on Consent for the City of Portland.

FOR FURTHER INFORMATION CONTACT: Alan Goodman, Project Manager, Oregon Operations Office, Environmental Protection Agency, 811 SW Sixth Avenue, 3rd Floor, Portland, Oregon, 97204, (503) 326-3685.

SUPPLEMENTARY INFORMATION: The City's primary emergency and seasonal water supply is the Columbia South Shore Well Field in East Multnomah County. The City's well field is downgradient from known sources of hazardous substance groundwater contamination that are part of the Site. The City owns property at each of the well sites, as well as other property and easements throughout the well field area. Based on certifications and disclosures by the City, EPA and DEQ have concluded that the City has not disposed of or arranged for the disposal of hazardous substances at the Site. EPA and DEQ have also concluded that, although City pumping in 1987 may have caused the movement of contamination, the City has not contributed to a release of hazardous substances at the Site resulting in the incurrence of response costs by the government or other authorized parties. EPA and DEQ have a Memorandum of Agreement to coordinate their activities to require parties responsible for the contamination to cleanup the Site.

The major provisions of the Consent Order require a cash payment from the City to DEQ, which is the lead Agency managing cleanup of the Site, to help defray past or future response costs at or in connection with the Site, including costs incurred in connection with negotiation and entry of this Consent Order, and a grant of access by the City to DEQ and EPA to the City property for all response activities to be taken at the Site; in exchange for legal protection for the City for cleanup liability at the Site in the form of a covenant not to sue from EPA and DEQ.

Copies of the proposed Consent Order may be examined at the Oregon Operations Office, 811 SW Sixth Avenue, 3rd Floor, Portland, Oregon, 97204. A Copy of the proposed Consent Order may be obtained by mail or in person from the Oregon Operations Office.

Authority: The Comprehensive Environmental Response, Compensation and Liability Act of 1980, as amended (“CERCLA”), 42 U.S.C. 9622(i).

Chuck Findley,
Acting Regional Administrator, Region 10.

[FR Doc. 00-9236 Filed 4-13-00; 8:45 am]

BILLING CODE 6560-50-P